DEPARTMENT OF AGRICULTURE

Agricultural Marketing Service

7 CFR Part 29

[Docket No. TB-02-14]

RIN 0581-AC11

Flue-Cured Tobacco Advisory Committee; Amendment of Regulations

AGENCY: Agricultural Marketing Service, USDA.

ACTION: Interim final rule with request for comments.

SUMMARY: The U.S. Department of Agriculture (USDA) is amending the regulations for the Flue-Cured Tobacco Advisory Committee (FCTAC) by removing the sections which specify composition of the committee. This will allow greater flexibility in responding to changing marketing conditions.

DATES: Effective October 2, 2002. Comments are due before December 2, 2002.

ADDRESSES: Send comments to John P. Duncan III, Deputy Administrator, Tobacco Programs, Agricultural Marketing Service (AMS), United States Department of Agriculture (USDA), STOP 0280, 1400 Independence Avenue, SW., Washington, DC 20250-0280. Comments will be available for public inspection at this location during regular business hours between 8 am and 4:30 pm, Monday through Friday, except holidays.

FOR FURTHER INFORMATION CONTACT: John P. Duncan III, Deputy Administrator, Tobacco Programs, AMS, USDA, STOP 0280, 1400 Independence Avenue, SW., Washington, DC 20250-0280; telephone number (202) 205-0567.

SUPPLEMENTARY INFORMATION: Since 1935, upon enactment of the Tobacco Inspection Act, the USDA has provided mandatory inspection services at designated tobacco auction markets. In 2002, based on results of referenda conducted among producers eligible for price support, regulations were amended to provide mandatory inspection at places other than designated tobacco auction markets. The USDA has always sought the input of the industry in implementing legislative authority concerning marketing due to the large geographic areas involved and the different procedure in individual types of tobacco such as size and weight of packages used to display the product, the number of designated markets, the number of sets of buyers present, the number of sales days, and other matters that directly impact on the operation of the auction markets and, therefore, the Federal presence necessary to provide the level of service desired by producers and industry.

In 1974, at the request of the industry, the USDA established the Flue-Cured Tobacco Advisory Committee (FCTAC) to provide a mechanism for consultation with flue-cured producers, warehouse representatives, and buying interests on the problems peculiar to that type of tobacco with particular emphasis on the grower designation program. The composition of the committee was specified in regulations although it was not necessary and is not customary. At a recent meeting, the FCTAC recommended that the regulations referencing its composition and representation be removed. Removal of these regulations will not alter the FCTAC's purpose nor direction for an orderly marketing of tobacco but will allow the USDA more flexibility in making structural changes in its composition as a result of new marketing changes. Historically, almost all flue-cured tobacco was sold at auction. In recent years, most flue-cured tobacco has been sold under contract.

The USDA intends to decrease the FCTAC from 39 members, each with an alternate, to 21 members, each with an alternate. The entities currently represented on the FCTAC will not change. The Flue-Cured Stabilization Cooperation will be added with one member. The rest of the apportionment will change as follows: Georgia, South Carolina, and Virginia Farm Bureaus will decrease from two members each to one member each; North Carolina Farm Bureau will decrease from eight members to four members; North Carolina State Grange will decrease from four members to two members; Tobacco Association of United States will decrease from five members to four members; Bright Belt Warehouse Association will decrease from 10 members to one member; Florida Farm Bureau, South Carolina State Grange, Tobacco Growers Association of North Carolina, Philip Morris USA, R. J. Reynolds Tobacco Company, and Lorillard Tobacco Company will all remain unchanged with one member each.

There are currently regulations at 7 CFR subpart G, §§ 29.9401-29.9407 covering the FCTAC. Section 29.9403 (b), (c), (d), and (e) would be removed.

Executive Order 12866 and 12988

This rule has been determined to be not significant for purposes of Executive Order 12866, and, therefore, has not been reviewed by the Office of Management and Budget.

This rule has been reviewed under Executive order 12988, Civil Justice Reform. This action is not intended to have retroactive effect. The rule will not exempt any State of local laws, regulations, or policies, unless they present an irreconcilable conflict with this rule. There are no administrative procedures which must be exhausted prior to any judicial challenge to the provisions of this rule.

Regulatory Flexibility Act

In conformance with the provisions of the Regulatory Flexibility Act (5 U.S.C. 601 et seq.), full consideration has been given to the potential economic impact upon small business. All tobacco warehouses and producers fall within the confines of “small business: which are defined by the Small Business Administration (13 CFR 121.201) as those having annual receipts of less than $750,000, and small agricultural service firms are defined as those whose annual receipts are less than $3,500,000. There are approximately 190 tobacco warehouses and approximately 450,000 tobacco producers and most warehouses and producers may be classified as small entities. The AMS has determined that this action will not have a significant economic impact on a substantial number of small entities. This interim final rule would not substantially affect the normal movement of the commodity into the marketplace. Compliance with this interim final rule would not impose substantial direct economic cost, recordkeeping, or personnel workload changes on small entities, and would not alter the market share of competitive positions of small entities relative to the large entities and would in no way affect normal competition in the marketplace. This rule merely removes section of the regulations that specify composition of the FCTAC.

Pursuant to 5 U.S.C. 553, it is also found and determined upon good cause that it is impracticable, unnecessary and customary to the public interest to give preliminary notice prior to putting this rule in effect, and that good cause exists for not postponing the effective date of this rule until 60 days after publication in the Federal Register so that USDA can utilize the advice of a committee which reflects the current makeup of the tobacco industry during the current marketing season. This interim final rule provides a 60-day comment period, and all comments timely received will be considered prior to the finalization of this rule.

List of Subjects in 7 CFR Part 29

Administrative practice and procedure, Advisory committees, Government publications, Imports, Pesticides and pests, Reporting and recordkeeping procedures, Tobacco.

For the reasons set forth in the preamble, the regulations at 7 CFR part 29 are amended as follows:

PART 29—TOBACCO INSPECTION

Subpart G—Policy Statement and Regulations Governing Availability of Tobacco Inspection and Price Support Services to Flue-Cured Tobacco on Designated Markets

1. The authority citation for part 29, subpart G continues to read as follows:

Authority: Tobacco Inspection Act, 49 Stat. 731 (7 U.S.C. et seq.); Commodity Credit Corporation Charter Act, 62 Stat. 1070, as amended (15 U.S.C. 714 et seq.); sec. 213, Pub. L. 98-180, 97 Stat. 1149 (7 U.S.C. 1421; 49 Stat. 731 (7 U.S.C. 511 et seq.), unless otherwise noted.

§ 29.9403 [Amended]

2. In § 29.9403, paragraphs (b), (c), (d), (e) and paragraph designation “(a)” are removed.

Dated: September 25, 2002.
A.J. Yates,
Administrator, Agricultural Marketing Service.

[FR Doc. 02-24905 Filed 9-30-02; 8:45 am]

BILLING CODE 3410-02-P